FEDERAL COMMUNICATIONS COMMISSION

[EB Docket No. 00-156, FCC 00-314]

Designation for Hearing

AGENCY: Federal Communications Commission.

ACTION: Notice.

SUMMARY: On August 23, 2000, (released August 29, 2000) the Commission designated the licenses and pending applications held by Ronald Brasher, Patricia Brasher, O.C Brasher, David Brasher, Metroplex Two-Way Radio Service (“Metroplex”), DLB Enterprises, Inc. (“DLB”), Jim Sumpter, Norma Sumpter, Melissa Sumpter, and Carolyn Lutz for hearing to determine if one or all of the licensees misrepresented facts or lacked candor with the Commission; engaged in unauthorized transfers of control in violation of 47 USC 310(d), and/or abused Commission processes. Ultimately, the hearing is to determine if the licensees are basically qualified to be Commission licensees; whether the designated licenses should be revoked; whether the designated applications should be granted; and, whether a forfeiture should issue.

FOR FURTHER INFORMATION CONTACT: Judy Lancaster, Attorney at (202) 418-1420, FCC, Washington, DC 20554.

SUPPLEMENTARY INFORMATION: The following is a synopsis of the Commission's order. The full text of the order is available for inspection and copying at the FCC, 445 12th Street SW., Washington, DC 20554. The text of the order is available online at the Enforcement Bureau's website: www.fcc.gov/eb/orders. The text of the order may also be purchased by calling ITS at (202) 857-3800.

The Commission's pre-designation investigation indicates that Ronald Brasher, Patricia Brasher, David (aka D.L.) Brasher and Diane Brasher (“the Brashers”) are officers of DLB and Metroplex. Carolyn Lutz is the sister of Patricia Brasher and the former office manager of DLB and Metroplex. In July 1996, Ronald Brasher, on behalf of DLB, submitted applications to the frequency coordinator, PCIA, in the name of, and appearing to bear the signatures of, O.C. Brasher, Ruth Bearden, Norma Sumpter, Jim Sumpter, Melissa Sumpter and Jennifer Hill. PCIA, in turn, submitted these applications to the Commission and Commission staff subsequently granted each of the applications. Ron Brasher, on behalf of DLB, managed the licenses issued by the FCC on behalf of the licensees. However, both O.C. Brasher and Ruth Bearden had died prior to the submission of applications in their names. Additionally, the Sumpters and Jennifer Hill deny authorizing, executing or submitting the applications in their names. They also deny any involvement in the construction or operation of their respective stations and say they have not received any revenue or paid any expenses relating to their stations. Consequently, each of the Brashers and Carolyn Lutz, as officers and employees of DLB, engaged in activities that collectively raise questions about the nature and extent of their involvement in the apparent violations. Accordingly, the Commission designated the licenses and applications listed below for hearing.

Ronald Brasher is the licensee of Private Land Mobile Stations WPLQ202, KCG967, PLD495,WPKH771, WPKI739, WPKI733, WPKI707, WIL990, WPLQ475, WPLY658, WPKY903, WPKY901, WPLZ533, WPKI762, and WPDU262, Dallas/Fort Worth, Texas. Patricia Brasher is the licensee of Private Land Mobile Stations WPJI362, WPKY900, and WPLD570, Dallas/Fort Worth, Texas. David Brasher is the licensee of Private Land Mobile Stations WPBU651, WPJR757 and WPJR750, Dallas/Fort Worth, Texas. Carolyn S. Lutz is the licensee of Private Land Mobile Station WPJR763, Dallas/Fort Worth, Texas. O.C. Brasher, deceased, was the licensee of Private Land Mobile Station WPJR761, Dallas/Fort Worth, Texas. Jim Sumpter is the licensee of Private Land Mobile Station WPJR725, Dallas/Fort Worth, Texas. Norma Sumpter is the licensee of Private Land Mobile Station WPJR739, Dallas/Fort Worth, Texas. Melissa Sumpter is the licensee of Private Land Mobile Station WPJS437, Dallas/Fort Worth, Texas, Jennifer Hill is the licensee of Private Land Mobile Station WPJR740, Dallas/Fort Worth, Texas. Metroplex Two-Way Radio Service is the licensee of Private Land Mobile Stations WPHS735, WPKP673, WPKM797, WPLZ841 and WPJR754, Dallas/Fort Worth, Texas. DLB Enterprises, Inc. is the licensee of Private Land Mobile Stations WPKM796, WPKL830, WPJY510, WPLU490, WPBH830, WPKP667, WPLY713, WPMH354, WPMH477, and WPKY978, Dallas/Fort Worth, Texas, WNAH223, Cleora, Oklahoma. DLB Enterprises, Inc., has the following applications pending: File Nos. AO17774, AO20241 and AO19157, Dallas, Texas, File No. AO18555, File No. AO20755, Crowley, Texas. Applicant for Assignment of Private Land Mobile Station WPJR740 from Jennifer Hill File No. D110637, Dallas, Texas. Applicant for Assignment of Private Land Mobile Stations from Ronald Brasher (WPKI707, WPKI739, WPKI733 and WPLQ475), Norma Sumpter (WPJR739), D.L. Brasher (WPJR750), David Brasher (WPJR757), Jim Sumpter (WPJR725), Jennifer Hill (WPJR740), Metroplex Two-Way Radio Service (WPJR754), O.C. Brasher (WPJR761), Melissa Sumpter (WPJS437) Dallas, Texas, File No. D113240 and File No. D113242. Applicant for Modification of Private Land Mobile Stations WPKM796, and WPKL830, and Assignment of Private Land Mobile Stations WPKI733, WPLQ475, WPKI707 and WPKI739 from Ronald Brasher and Assignment of Private Land Mobile Station WPKM797 from Metroplex, Dallas, Texas. File No. D113241.

Federal Communications Commission.
Shirley Suggs,
Chief, Publications Group.

[FR Doc. 01-4174 Filed 2-16-01; 8:45 am]

BILLING CODE 6712-01-U